ENVIRONMENTAL PROTECTION AGENCY

40 CFR Part 63

[EPA-HQ-OAR-2021-0133; FRL-8473-03-OAR]

RIN 2060-AV27

National Emission Standards for Hazardous Air Pollutants: Wood Preserving Area Sources Technology Review; Technical Correction for Surface Coating of Wood Building Products

AGENCY: Environmental Protection Agency (EPA).

ACTION: Final rule.

SUMMARY: This action finalizes the technology review (TR) conducted for the Wood Preserving Area Sources category regulated under national emission standards for hazardous air pollutants (NESHAP). While the Environmental Protection Agency (EPA) is making no changes to the existing standards as a result of the TR, this action establishes minor editorial and formatting changes to the Wood Preserving Area Sources NESHAP table of applicable general provisions. In addition, the EPA is finalizing technical corrections to the Surface Coating of Wood Building Products NESHAP.

DATES: This final rule is effective on March 8, 2023.

ADDRESSES: The U.S. Environmental Protection Agency (EPA) has established a docket for this action under Docket ID No. EPA-HQ-OAR-2021-0133. All documents in the docket are listed on the https://www.regulations.gov/ website. Although listed, some information is not publicly available, e.g., Confidential Business Information (CBI) or other information whose disclosure is restricted by statute. Certain other material, such as copyrighted material, is not placed on the internet and will be publicly available only in hard copy form. Publicly available docket materials are available either electronically through https://www.regulations.gov/, or in hard copy at the EPA Docket Center, WJC West Building, Room Number 3334, 1301 Constitution Ave. NW, Washington, DC. The Public Reading Room hours of operation are 8:30 a.m. to 4:30 p.m. Eastern Standard Time (EST), Monday through Friday. The telephone number for the Public Reading Room is (202) 566-1744, and the telephone number for the EPA Docket Center is (202) 566-1742.

FOR FURTHER INFORMATION CONTACT: Mr. Cyrus Ma, Sector Policies and Programs Division (mail code E143-03), Office of Air Quality Planning and Standards, U.S. Environmental Protection Agency, Research Triangle Park, North Carolina 27711; telephone number: (919) 541-4210; and email address: Ma.Cyrus@epa.gov.

SUPPLEMENTARY INFORMATION:

Preamble acronyms and abbreviations. Throughout this preamble the use of “we,” “us,” or “our” is intended to refer to the EPA. We use multiple acronyms and terms in this preamble. While this list may not be exhaustive, to ease the reading of this preamble and for reference purposes, the EPA defines the following terms and acronyms here:

CAA Clean Air Act

CBI Confidential Business Information

CCA Chromated Copper Arsenate

CFR Code of Federal Regulations

CRA Congressional Review Act

EJ Environmental Justice

EPA Environmental Protection Agency

EST Eastern Standard Time

GACT Generally Available Control Technology

HAP Hazardous Air Pollutant(s)

KM Kilometer

MACT Maximum Achievable Control Technology

NESHAP National Emission Standards for Hazardous Air Pollutants

NTTAA National Technology Transfer and Advancement Act

OCSPP Office of Chemical Safety and Pollution Prevention

OMB Office of Management and Budget

OSHA Occupational Safety and Health Administration

PRA Paperwork Reduction Act

RFA Regulatory Flexibility Act

TR Technology Review

UMRA Unfunded Mandates Reform Act

Background information. On March 7, 2022, the EPA proposed revisions to the Wood Preserving Area Sources NESHAP based on our TR. In this action, we are finalizing decisions and revisions for the rule. We summarize comments we received regarding the proposed rule and provide our responses in this preamble. A “track changes” version of the regulatory language that incorporates the changes in this action is available in the docket (docket ID No. EPA-HQ-OAR-2021-0133).

Organization of this document. The information in this preamble is organized as follows:

I. General Information

A. Does this action apply to me?

B. Where can I get a copy of this document and other related information?

C. Judicial Review and Administrative Reconsideration

II. Background

A. What is the statutory authority for this action?

B. What is the Wood Preserving Area Sources source category and how does the NESHAP regulate HAP emissions from the source category?

C. What changes did we propose for the Wood Preserving Area Sources source category in our March 7, 2022, proposal?

III. What is included in this final rule?

A. What are the final rule amendments based on the technology review for the Wood Preserving Area Sources source category?

B. What other changes are we finalizing in the NESHAP for Wood Preserving Area Sources?

C. What are the technical corrections to the NESHAP for Surface Coating of Wood Building Products?

IV. What is the rationale for our final decisions and amendments for the Wood Preserving Area Sources source category and the technical corrections to the NESHAP for Surface Coating of Wood Building Products?

A. Technology Review for the Wood Preserving Area Sources Source Category

1. What did we propose pursuant to CAA section 112(d)(6) for the Wood Preserving Area Sources source category?

2. How did the TR change for the Wood Preserving Area Sources source category?

3. What comments did we receive on the TR, and what are our responses?

4. What is the rationale for our final approach for the TR?

B. Changes to Wood Preserving Area Sources NESHAP Table 1 to Subpart QQQQQQ of Part 63—Applicability of General Provisions to Subpart QQQQQQ

1. What changes did we propose to Table 1 to Subpart QQQQQQ of Part 63—Applicability of General Provisions to Subpart QQQQQQ?

2. How did revisions in the final action change Table 1 to Subpart QQQQQQ of Part 63—Applicability of General Provisions to Subpart QQQQQQ?

3. What comments did we receive on the proposed changes to Table 1 to Subpart QQQQQQ of Part 63—Applicability of General Provisions to Subpart QQQQQQ, and what are our responses?

4. What is the rationale for our final approach for the changes to Table 1 to Subpart QQQQQQ of Part 63—Applicability of General Provisions to Subpart QQQQQQ?

C. Technical Corrections to the NESHAP for Surface Coating of Wood Building Products

1. What technical corrections were proposed to the NESHAP for Surface Coating of Wood Building Products?

2. How did the technical corrections to the NESHAP for Surface Coating of Wood Building Products change?

3. What comments did we receive on the technical corrections to the NESHAP for Surface Coating of Wood Building Products?

4. What is the rationale for our final approach for the technical corrections to the NESHAP for Surface Coating of Wood Building Products?

V. Summary of Cost, Environmental, and Economic Impacts and Additional Analyses Conducted

A. What are the affected facilities?

B. What are the air quality impacts?

C. What are the cost impacts?

D. What are the economic impacts?

E. What are the benefits?

F. What analysis of environmental justice did we conduct?

G. What analysis of children's environmental health did we conduct?

VI. Statutory and Executive Order Reviews

A. Executive Orders 12866: Regulatory Planning and Review and Executive Order 13563: Improving Regulation and Regulatory Review

B. Paperwork Reduction Act (PRA)

C. Regulatory Flexibility Act (RFA)

D. Unfunded Mandates Reform Act (UMRA)

E. Executive Order 13132: Federalism

F. Executive Order 13175: Consultation and Coordination With Indian Tribal Governments

G. Executive Order 13045: Protection of Children From Environmental Health Risks and Safety Risks

H. Executive Order 13211: Actions Concerning Regulations That Significantly Affect Energy Supply, Distribution, or Use

I. National Technology Transfer and Advancement Act (NTTAA)

J. Executive Order 12898: Federal Actions To Address Environmental Justice in Minority Populations and Low-Income Populations

K. Congressional Review Act (CRA)

I. General Information

A. Does this action apply to me?

Regulated entities. Categories and entities potentially regulated by this action are shown in Table 1 of this preamble.

Table 1—NESHAP and Industrial Source Categories Affected by This Final Action
NESHAP | Source category | NAICS ¹ code
40 CFR part 63, subpart QQQQQQ | Wood Preserving Area Sources | 321114.
40 CFR part 63, subpart QQQQ | Surface Coating of Wood Building Products | 321211, 321212, 321218, 321219, 321911, 321999.
¹ North American Industry Classification System.

Table 1 of this preamble is not intended to be exhaustive, but rather to provide a guide for readers regarding entities likely to be affected by the final action for the source category listed. To determine whether your facility is affected, you should examine the applicability criteria in the appropriate NESHAP. If you have any questions regarding the applicability of any aspect of this NESHAP, please contact the appropriate person listed in the preceding FOR FURTHER INFORMATION CONTACT section of this preamble.

B. Where can I get a copy of this document and other related information?

In addition to being available in the docket, an electronic copy of this final action will also be available on the internet. Following signature by the EPA Administrator, the EPA will post a copy of this final action at: https://www.epa.gov/stationary-sources-air-pollution/wood-preserving-area-sources-national-emission-standards-hazardous. Following publication in the Federal Register, the EPA will post the Federal Register version and key technical documents at this same website.

Additional information is available at https://www.epa.gov/stationary-sources-air-pollution/wood-preserving-area-sources-national-emission-standards-hazardous. This information includes a summary of the NESHAP, links to the various regulatory actions for the source category, and other related documents.

C. Judicial Review and Administrative Reconsideration

Under Clean Air Act (CAA) section 307(b)(1), judicial review of this final action is available only by filing a petition for review in the United States Court of Appeals for the District of Columbia Circuit (the Court) by May 8, 2023. Under CAA section 307(b)(2), the requirements established by this final rule may not be challenged separately in any civil or criminal proceedings brought by the EPA to enforce the requirements.

Section 307(d)(7)(B) of the CAA further provides that only an objection to a rule or procedure which was raised with reasonable specificity during the period for public comment (including any public hearing) may be raised during judicial review. This section also provides a mechanism for the EPA to reconsider the rule if the person raising an objection can demonstrate to the Administrator that it was impracticable to raise such objection within the period for public comment or if the grounds for such objection arose after the period for public comment (but within the time specified for judicial review) and if such objection is of central relevance to the outcome of the rule. Any person seeking to make such a demonstration should submit a Petition for Reconsideration to the Office of the Administrator, U.S. EPA, Room 3000, WJC South Building, 1200 Pennsylvania Ave. NW, Washington, DC 20460, with a copy to both the person(s) listed in the preceding FOR FURTHER INFORMATION CONTACT section, and the Associate General Counsel for the Air and Radiation Law Office, Office of General Counsel (Mail Code 2344A), U.S. EPA, 1200 Pennsylvania Ave. NW, Washington, DC 20460.

II. Background

A. What is the statutory authority for this action?

The statutory authority for this action is provided by sections 112 and 301 of the CAA, as amended (42 U.S.C. 7401 et seq.). Section 112(d)(6) requires the EPA to review standards promulgated under CAA section 112(d) and revise them “as necessary (taking into account developments in practices, processes, and control technologies)” no less often than every 8 years following promulgation of those standards. This is referred to as a “technology review” and is required for all standards established under CAA section 112(d) including generally available control technology (GACT) standards that apply to area sources.¹ This action finalizes the 112(d)(6) technology review for the Wood Preserving Area Sources area source NESHAP.

¹ For categories of area sources subject to GACT standards, CAA sections 112(d)(5) and (f)(5) provide that the EPA is not required to conduct a residual risk review under CAA section 112(f)(2).

Several additional CAA sections are relevant to this action as they specifically address regulation of hazardous air pollutant (HAP) emissions from area sources. Collectively, CAA sections 112(c)(3), (d)(5), and (k)(3) are the basis of the Area Source Program under the Urban Air Toxics Strategy, which provides the framework for regulation of area sources under CAA section 112.

Section 112(k)(3)(B) of the CAA requires the EPA to identify at least 30 HAP that pose the greatest potential health threat in urban areas with a primary goal of achieving a 75 percent reduction in cancer incidence attributable to HAP emitted from stationary sources. As discussed in the Integrated Urban Air Toxics Strategy (64 FR 38706, 38715, July 19, 1999), the EPA identified 30 HAP emitted from area sources that pose the greatest potential health threat in urban areas, and these HAP are commonly referred to as the “30 urban HAP.”

Section 112(c)(3), in turn, requires the EPA to list sufficient categories or subcategories of area sources to ensure that area sources representing 90 percent of the emissions of the 30 urban HAP are subject to regulation. The EPA implemented these requirements through the Integrated Urban Air Toxics Strategy by identifying and setting standards for categories of area sources including the Wood Preserving Area Sources source category that is addressed in this action.

CAA section 112(d)(5) provides that for area source categories, in lieu of setting maximum achievable control technology (MACT) standards (which are generally required for major source categories), the EPA may elect to promulgate standards or requirements for area sources “which provide for the use of generally available control technology or management practices [GACT] by such sources to reduce emissions of hazardous air pollutants.” In developing such standards, the EPA evaluates the control technologies and management practices that reduce HAP emissions that are generally available for each area source category. Consistent with the legislative history, we can consider costs and economic impacts in determining what constitutes GACT.

GACT standards were set for the Wood Preserving Area Sources source category in 2007. As noted above, this action finalizes the required CAA 112(d)(6) technology review for that source category.

B. What is the Wood Preserving Area Sources source category and how does the NESHAP regulate HAP emissions from the source category?

The EPA promulgated the Wood Preserving Area Sources NESHAP on July 16, 2007 (72 FR 38864). The standards are codified at 40 CFR part 63, subpart QQQQQQ. The Wood Preserving Area Sources industry consists of facilities that use either a pressurized or thermal treatment process to impregnate wood with chemicals that provide long-term resistance to attack by fungi, bacteria, insects, or marine borers. Some of the products produced by the wood preserving industry include posts, cross ties, switch ties, utility poles, round timber pilings, lumber for aquatic applications, and fire-retardant lumber products.

More than 95 percent of all treated wood is preserved through pressurized processes. Almost all pressurized wood preservation processes use a closed treating cylinder or retort. A retort is an airtight pressure vessel, typically a long horizontal cylinder, used for the pressure impregnation of wood products with a liquid preservative. In a thermal treatment process, the wood is exposed to the preservative in an open vessel. The wood is immersed between separate tanks containing heated and cold preservative, which are either oil-borne or waterborne. Alternatively, thermal treated wood may be immersed in one tank that is first heated then allowed to cool. During the hot bath, the expansion of air in the wood forces some air out and improves the penetration of preservatives. In the cold bath, air in the wood contracts, creating a partial vacuum, and atmospheric pressure forces more preservative into the wood.

There are three general classes of wood preservatives: (a) oils, such as creosote and petroleum solutions of pentachlorophenol (PCP) and copper naphthenate, (b) waterborne salts that are applied as water solutions, such as chromated copper arsenate (CCA), and (c) light organic solvents, which serve as carriers for synthetic insecticides. Over the past few decades, the wood preserving industry has undergone several changes related to the types of preservatives used for certain applications and the associated emissions. Of the variety of wood preservatives being used today, some contain HAP while others do not.

Per 40 CFR 63.11428, the NESHAP is applicable to any wood preserving operation located at an area source that emits HAP. However, the urban HAP for which the source category was listed are arsenic, chromium, methylene chloride, and dioxins (72 FR 16652). As such, the Wood Preserving Area Sources NESHAP only applies to operations with the potential to emit these four urban HAP. Three wood preservatives, PCP, CCA, and ammoniacal copper zinc arsenate (ACZA), contain at least one of the urban HAP. The HAP PCP contains trace concentrations of dioxins, which are an urban HAP. The urban HAP arsenic and chromium are contained in CCA. The urban HAP arsenic is contained in ACZA. The EPA is not aware of any facilities currently using a wood preservative containing the urban HAP methylene chloride. No methylene chloride emissions were reported in the 2019 Toxic Release Inventory (TRI) and the EPA's Office of Chemical Safety and Pollution Prevention (OCSPP) does not currently identify the use of methylene chloride as a wood preservative. Altogether, the source category covered by the GACT standards currently includes 322 facilities. The EPA estimates that 177 of the 322 Wood Preserving Area Sources use a wood preservative containing an urban HAP and are therefore subject to the GACT standards. The remaining area sources use wood preservatives that do not contain HAP or use creosote, which contains the HAP naphthalene.

The GACT standards require any facility using a pressure treatment process to use a retort or similarly enclosed vessel for the preservative treatment. Facilities using a thermal treatment process are required to use process treatment tanks equipped with air scavenging systems to capture and control air emissions. In addition, all facilities must prepare and operate according to a management practice plan to minimize air emissions, including emissions from process tanks and equipment (e.g., retorts, other enclosed vessels, thermal treatment tanks), storage, handling, and transfer operations. These standards are required to be documented in a management practices plan. See 40 CFR 63.11430(c).

C. What changes did we propose for the Wood Preserving Area Sources source category in our March 7, 2022, proposal?

On March 7, 2022, the EPA published a proposed rule in the Federal Register for the Wood Preserving Area Source NESHAP, 40 CFR part 63, subpart QQQQQQ, that took into consideration the TR analyses. In the proposed rule, we proposed no changes to the standards as a result of the TR. The EPA proposed minor editorial and formatting changes to Table 1 in the Wood Preserving Area Sources NESHAP which outlines the applicability of CAA General Provisions (see docket ID EPA-HQ-OAR-2021-0133-0017 for Redline Version of 40 CFR part 63, subpart QQQQQQ Showing Proposed Changes).

III. What is included in this final rule?

This action finalizes the EPA's determinations pursuant to the TR provisions of CAA section 112 for the Wood Preserving Area Sources source category. This action also finalizes other changes to the NESHAP, including minor editorial and formatting changes to Table 1 in the Wood Preserving Area Sources NESHAP.

A. What are the final rule amendments based on the technology review for the Wood Preserving Area Sources source category?

We determined that there are no developments in practices, processes, and control technologies that warrant revisions to the GACT standards for this source category. Therefore, this final rule does not make any revisions to the GACT standards under CAA section 112(d)(6).

B. What other changes are we finalizing in the NESHAP for Wood Preserving Area Sources?

This action also finalizes, as proposed, minor editorial and formatting changes to the Wood Preserving Area Sources NESHAP Table 1, which outlines the applicability of CAA General Provisions. The notice of proposed rulemaking described the changes to the Subpart QQQQQQ Table 1, and a redline strikeout version of the Subpart QQQQQQ Table 1 showing proposed changes was available in the docket (see docket ID EPA-HQ-OAR-2021-0133-0017). This action finalizes the changes as detailed in that document.

C. What are the technical corrections to the NESHAP for Surface Coating of Wood Building Products?

This action finalizes technical corrections to the NESHAP for Surface Coating of Wood Building Products. As described in the March 7, 2022, proposal, changes are necessary because the NESHAP for Surface Coating of Wood Building Products contains a reference to an Occupational Safety and Health Administration (OSHA) provision that has since been removed.

IV. What is the rationale for our final decisions and amendments for the Wood Preserving Area Sources source category and the technical corrections to the NESHAP for Surface Coating of Wood Building Products?

For each issue, this section provides a description of what we proposed and what we are finalizing for the issue, the EPA's rationale for the final decisions and amendments, and a summary of comments and responses.

A. Technology Review for the Wood Preserving Area Sources Source Category

1. What did we propose pursuant to CAA section 112(d)(6) for the Wood Preserving Area Sources source category?

Based on our TR described in the March 7, 2022, proposal (87 FR 12633), we found no developments in practices, processes, or control technologies that necessitate revisions to the standards for the Wood Preserving Area Sources NESHAP (40 CFR part 63, subpart QQQQQQ).

2. How did the TR change for the Wood Preserving Area Sources source category?

After considering the comments received on the proposed rule and given that commenters did not identify any new practices, processes, and control technologies to further reduce emissions of arsenic, chromium, dioxins, or methylene chloride, the EPA has decided that no changes to the TR are necessary. Therefore, the EPA is finalizing its findings in the proposed rule that revisions to the emission standards for the Wood Preserving Area Sources NESHAP are not warranted under CAA section 112(d)(6).

3. What comments did we receive on the TR, and what are our responses?

Two comments were received on the proposed rulemaking. To access these comments in the docket for the proposed rule, see Docket ID No. EPA-HQ-OAR-2021-0133-0022 and EPA-HQ-OAR-2021-0133-0021.

Comment: A commenter acknowledged that EPA regulations minimize emissions of the urban HAP (arsenic, chromium, dioxins, and methylene chloride) but expressed concern regarding the health impacts associated with long-term exposure. The commenter stated that the EPA's determination that there was no cost-effective measure to further reduce emissions failed to consider the human health costs related to the bioaccumulation of HAP in surrounding environments and the secondary exposure to people beyond those directly affected at the source. The commenter suggested that the EPA consider natural and sustainable ways of preserving wood that do not incorporate synthetic chemicals and referenced an article on the complex nanostructure of cicada wings. The article, last updated in 2021, indicates that the surface of cicada wings is comprised of microscopic “nanopillars” and is naturally coated with waxy substances that repel water, dirt, and bacteria. The author of the article writes that scientists are currently exploring ways to design and manufacture nanoscale surfaces that possess these properties.

Response: The TR did not identify any generally available non-synthetic methods of wood preserving, and the commenter did not provide any direct information identifying an industrial-scale natural method of treating wood that would produce long-term resistance to attack by fungi, bacteria, insects, or marine borers for use as posts, cross ties, switch ties, utility poles, round timber pilings, lumber for aquatic applications, and fire-retardant wood products. The EPA did not identify any natural wood preserving methods that imitate the nanostructure of cicada wings and their ability to repel water, dirt, and bacteria.

Comment: A commenter opposed the proposal on the basis that there should be stronger standards to protect populations of concern. The commenter stated that although air quality would not be negatively impacted by the proposed action, it would also not improve it for populations of concern. The commenter restated results from our demographic analysis and pointed out that people of lower socioeconomic status and minorities are being exposed to emissions at a higher rate than other populations. The commenter noted that if arsenic levels are high enough, it can negatively impact the environment. The commenter requested that the EPA reevaluate the proposed decision.

Response: This action implements CAA section 112(d)(6), which requires the EPA to review standards promulgated under CAA section 112(d) and revise them “as necessary (taking into account developments in practices, processes, and control technologies).” The TR and neither commenter identified any cost-effective developments in practices, processes, and control technologies for wood preserving facilities that would further reduce emissions beyond the management practice and reporting requirements that currently exist in the rule. As the commenter noted, the proposal would not negatively impact air quality. The EPA notes that reducing emissions of urban air toxics has been a priority for EPA since the passage of the Clean Air Act Amendments in 1990. There have been significant reductions in urban air toxics because of EPA regulations, including the Wood Preserving Area Sources NESHAP, and enforcement actions. The EPA expects compliance with the Wood Preserving Area Sources NESHAP has reduced and will continue to reduce the effects of emissions on populations in proximity to wood preserving facilities, including in communities potentially overburdened by pollution. For more information on our analysis of environmental justice, see Section VI.F.

4. What is the rationale for our final approach for the TR?

Based on the TR and after evaluating all comments received on the TR, we determined that no changes to the review are necessary. Therefore, pursuant to CAA section 112(d)(6), we are finalizing the TR as proposed.

B. Changes to Wood Preserving Area Sources NESHAP Table 1 to Subpart QQQQQQ of Part 63—Applicability of General Provisions to Subpart QQQQQQ

1. What changes did we propose to Table 1 to Subpart QQQQQQ of Part 63—Applicability of General Provisions to Subpart QQQQQQ?

In the March 7, 2022, proposal (87 FR 12633), we proposed minor editorial and formatting changes to Table 1 to Subpart QQQQQQ of Part 63 for the Wood Preserving Area Sources NESHAP listing the applicable general provisions. The notice of proposed rulemaking described the changes and a redline strikeout version of Table 1 showing proposed changes was available in the docket.

2. How did revisions in the final action change Table 1 to Subpart QQQQQQ of Part 63—Applicability of General Provisions to Subpart QQQQQQ?

In the final rule, the EPA is making the revisions to Table 1 to Subpart QQQQQQ of Part 63 for the Wood Preserving Area Sources NESHAP as described in the proposal published on March 7, 2022.

3. What comments did we receive on the proposed changes to Table 1 to Subpart QQQQQQ of Part 63—Applicability of General Provisions to Subpart QQQQQQ, and what are our responses?

No comments were received on the proposed changes to Table 1 to Subpart QQQQQQ of Part 63 for the Wood Preserving Area Sources source category.

4. What is the rationale for our final approach for the changes to Table 1 to Subpart QQQQQQ of Part 63—Applicability of General Provisions to Subpart QQQQQQ?

No comments were received regarding the proposed changes to Table 1 to Subpart QQQQQQ of Part 63 for the Wood Preserving Area Sources source category. Therefore, those changes are being finalized as proposed.

C. Technical Corrections to the NESHAP for Surface Coating of Wood Building Products

1. What technical corrections were proposed to the NESHAP for Surface Coating of Wood Building Products?

In the March 7, 2022, proposal (87 FR 12633), we proposed technical corrections to the NESHAP for Surface Coating of Wood Building Products. The proposed technical corrections were necessary because the NESHAP for Surface Coating of Wood Building Products contains a reference to an OSHA provision that has changed. The EPA proposed to amend 40 CFR 63.4741(a)(1)(i) and (a)(4), which describe how to determine the mass fraction of organic HAP in each material used, to remove references to OSHA-defined carcinogens as specified in 29 CFR 1910.1200(d)(4). The reference to OSHA-defined carcinogens as specified in 29 CFR 1910.1200(d)(4) is intended to specify which compounds must be included in calculating total organic HAP content of a coating material if they are present at 0.1 percent or greater by mass. The EPA is eliminating this reference because OSHA revised its hazard communication standard in 2012 and completely removed 29 CFR 1910.1200(d)(4) from the CFR (58 FR 17574, March 26, 2012). Consequently, the NESHAP for Surface Coating of Wood Building Products cross-references a regulatory citation that no longer exists. The EPA proposed to replace these references to OSHA-defined carcinogens and 29 CFR 1910.1200(d)(4) with a new table explicitly included in the regulatory text (proposed as Table 7 to 40 CFR part 63, subpart QQQQ) of those organic HAP that must be included in calculating the total organic HAP content of a coating material if they are present at 0.1 percent or greater by mass. The proposed redline strikeout regulatory edits that would be necessary to incorporate the changes were included in the docket.

2. How did the technical corrections to the NESHAP for Surface Coating of Wood Building Products change?

The EPA is finalizing the technical corrections to the NESHAP for Surface Coating of Wood Building Products as proposed.

3. What comments did we receive on the technical corrections to the NESHAP for Surface Coating of Wood Building Products?

No comments were received on the proposed technical corrections to the NESHAP for Surface Coating of Wood Building Products.

4. What is the rationale for our final approach for the technical corrections to the NESHAP for Surface Coating of Wood Building Products?

No comments were received on the proposed technical corrections to the NESHAP for Surface Coating of Wood Building Products. Therefore, the technical corrections to the NESHAP for Surface Coating of Wood Building Products are being finalized as proposed.

V. Summary of Cost, Environmental, and Economic Impacts and Additional Analyses Conducted

A. What are the affected facilities?

Approximately 322 area source wood preserving facilities in the United States are subject to 40 CFR part 63, subpart QQQQQQ. Approximately 177 of those facilities use or are permitted to use a wood preservative containing arsenic, chromium, dioxins, or methylene chloride, and therefore must comply with the management practice requirements.

B. What are the air quality impacts?

Because we are not revising the standards for Wood Preserving Area Sources, we do not anticipate any quantifiable air quality impacts as a result of the final action.

C. What are the cost impacts?

We expect that the action will have minimal cost impacts for Wood Preserving Area Sources. In the March 7, 2022, proposed rule we estimated a one-time cost of $270 per facility (in 2019 dollars) associated with an affected facility reviewing the rule. Because the EPA is finalizing the rule as proposed, there are no changes to this cost estimate.

D. What are the economic impacts?

Economic impact analyses focus on changes in market prices and output levels. If changes in market prices and output levels in the primary markets are significant enough, impacts on other markets may also be examined. Both the magnitude of costs needed to comply with a final rule and the distribution of these costs among affected facilities can have a role in determining how the market will change in response to a final rule. Because the costs associated with the final revisions are minimal, no significant economic impacts are anticipated as a result of the final amendments. As presented in the March 7, 2022, proposed rule, the total cost associated with this action is estimated to be approximately $87,000. This estimate is based on the one-time cost of $270 per facility with 322 facilities estimated to be subject to the regulation.

E. What are the benefits?

The final amendments to the Wood Preserving Areas Sources NESHAP are limited to editorial and technical corrections to Table 1 at the end of the regulation listing the applicable part 63 General Provisions. These changes improve the accuracy and clarity of the rule.

F. What analysis of environmental justice did we conduct?

Executive Order 12898 directs the EPA to identify the populations of concern who are most likely to experience unequal burdens from environmental harms; specifically, minority populations (i.e., people of color), low-income populations, and Indigenous peoples (59 FR 7629, February 16, 1994). Additionally, Executive Order 13985 is intended to advance racial equity and support underserved communities through Federal government actions (86 FR 7009, January 20, 2021). The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.” In recognizing that people of color and low-income populations often bear an unequal burden of environmental harms and risks, the EPA continues to consider ways of protecting them from adverse public health and environmental effects of air pollution.

To examine the potential for any EJ issues that might be associated with the source category, we performed a demographic analysis at proposal, and have determined that the data and affected facilities did not change as a result of public comments. Therefore, the analysis from the proposed rule is still applicable for this final action. The results of the demographic analysis can be found in section IV(F) of the proposed rule's preamble (see 87 FR 12633, March 7, 2022). The analysis included an assessment of individual demographic groups of the populations living within 5 km and within 50 km of the facilities. We then compared the data from the analysis to the national average for each of the demographic groups. The results show that for populations within 5 km of the 322 existing facilities, the following demographic groups were above the national average: African American (21 percent versus 12 percent nationally), Hispanic/Latino (21 percent versus 19 percent nationally), and people living below the poverty level (18 percent versus 13 percent nationally). The results show that for populations within 50 km of the 322 existing facilities, the percent African American population was above the national average (14 percent versus 12 percent nationally). The methodology and the results of the demographic analysis are presented in a technical report, “Analysis of Demographic Factors for Populations Living Near Wood Preserving Area Sources,” available in the docket for this action (Docket ID No. EPA-HQ-OAR-2021-0133).

Given that the EPA is not revising the standards for Wood Preserving Area Sources, we do not anticipate any quantifiable air quality impacts as a result of the final action. The final amendments are limited to editorial and technical corrections to Table 1 at the end of the regulation listing the applicable part 63 General Provisions. These changes improve the accuracy and clarity of the rule. We note that wood preservatives containing the urban HAP arsenic, chromium, methylene chloride, and dioxin (a trace contaminant in PCP) either have been significantly reduced, are in the process of being phased out, or have been phased out completely since this source category was listed (see Docket ID No. EPA-HQ-OAR-2021-0133-0016 Technology Review for the Wood Preserving Area Sources NESHAP, page 6, and Docket ID No. EPA-HQ-OPP-2014-0653 Pentachlorophenol Final Registration Review Decision).

G. What analysis of children's environmental health did we conduct?

The EPA interprets Executive Order 13045 as applying only to those regulatory actions that concern environmental health or safety risks that the EPA has reason to believe may disproportionately affect children, per the definition of “covered regulatory action” in section 2-202 of the Executive Order. This action is not subject to Executive Order 13045 because it does not concern an environmental health risk or safety risk.

VI. Statutory and Executive Order Reviews

A. Executive Order 12866: Regulatory Planning and Review and Executive Order 13563: Improving Regulation and Regulatory Review

This action is not a significant regulatory action and was, therefore, not submitted to the Office of Management and Budget (OMB) for review.

B. Paperwork Reduction Act (PRA)

This action does not impose any new information collection burden under the PRA. OMB has previously approved the information collection activities contained in the existing regulations and has assigned OMB control number 2060-0598. This action does not include any new reporting or recordkeeping requirements and therefore does not impose an information collection burden.

C. Regulatory Flexibility Act (RFA)

I certify that this action will not have a significant economic impact on a substantial number of small entities under the RFA. The small entities subject to the requirements of this action are small businesses. The Agency has determined that all small entities affected by this action, estimated to be 173 entities, may experience an impact of less than 0.7 percent of revenues, with approximately 91 percent of these entities estimated to experience a potential impact of less than 0.1 percent of revenues. Details of the analysis were presented in the spreadsheet titled RFA_Analysis_Wood_2022_Final.xlsx, which is found in the docket.

D. Unfunded Mandates Reform Act (UMRA)

This action does not contain an unfunded mandate of $100 million or more as described in UMRA, 2 U.S.C. 1531-1538, and does not significantly or uniquely affect small governments. While this action creates an enforceable duty on the private sector, the cost does not exceed $100 million or more.

E. Executive Order 13132: Federalism

This action does not have federalism implications in relation to Executive Order 13132. It will not have substantial direct effects on the states, on the relationship between the National Government and the states, or on the distribution of power and responsibilities among the various levels of government.

F. Executive Order 13175: Consultation and Coordination With Indian Tribal Governments

This action does not have tribal implications as specified in Executive Order 13175. None of the Wood Preserving Area Sources that have been identified as being affected by this action are owned or operated by tribal governments. However, we determined that 145 tribes were located near a Wood Preserving Area Source facility. Consistent with the EPA Policy on Coordination and Consultation with Indian Tribes, the EPA offered tribal leadership the opportunity for government-to-government consultation with no response.

G. Executive Order 13045: Protection of Children From Environmental Health Risks and Safety Risks

This action is not subject to Executive Order 13045 because the EPA does not believe the environmental health risks or safety risks addressed by this action present a disproportionate risk to children.

H. Executive Order 13211: Actions Concerning Regulations That Significantly Affect Energy Supply, Distribution, or Use

This action is not subject to Executive Order 13211, because it is not a significant regulatory action under Executive Order 12866.

I. National Technology Transfer and Advancement Act (NTTAA)

This action does not involve any technical standards.

J. Executive Order 12898: Federal Actions To Address Environmental Justice in Minority Populations and Low-Income Populations

Executive Order 12898 (59 FR 7629, February 16, 1994) directs Federal agencies, to the greatest extent practicable and permitted by law, to make environmental justice part of their mission by identifying and addressing, as appropriate, disproportionately high and adverse human health or environmental effects of their programs, policies, and activities on minority populations (people of color and/or Indigenous peoples) and low-income populations.

The demographic analysis presented in Section V.F. of this preamble provides information on the demographic characteristics (e.g., race, ethnicity, income) of the populations living near wood preserving facilities but does not provide information on health or environmental effects from these sources. From the demographic analysis, EPA determined that for populations living within 5 km of wood preserving facilities the percentage of residents who are African American, Hispanic/Latino, or living below the poverty level are higher than the nationwide average (see section IV.F. of 87 FR 12633, March 7, 2022).

Because percentages of people of color and low-income individuals living near wood preserving facilities are higher than nationwide averages, the EPA acknowledges that the human health or environmental conditions that exist prior to this action have the potential to result in disproportionate and adverse human health or environmental effects on people of color, low-income populations, and/or Indigenous peoples. However, we note that wood preservatives containing the urban HAP arsenic, chromium, methylene chloride, and dioxin (a trace contaminant in PCP) either have been significantly reduced, are in the process of being phased out, or have been phased out completely since this source category was listed. This action is not likely to change any potential existing disproportionate effects on people of color, low-income populations and/or Indigenous peoples because we are not amending existing emission standards in the Wood Preserving Area Sources NESHAP and are finalizing minor editorial and formatting changes as discussed earlier in this preamble.

The information supporting this Executive Order review is contained in a technical report, Analysis of Demographic Factors for Populations Living Near National Emission Standard for Hazardous Air Pollutants: Technology Review for Wood Preserving Area Sources (see Docket ID No. EPA-HQ-OAR-2021-0133-0020) and is discussed in section V.F of this final rule.

K. Congressional Review Act (CRA)

This action is subject to the CRA, and the EPA will submit a rule report for this action to each House of the Congress and to the Comptroller General of the United States. Neither of the NESHAP amended by this action constitute a “major rule” as defined by 5 U.S.C. 804(2).

List of Subjects in 40 CFR Part 63

Environmental protection, Administrative practice and procedures, Air pollution control, Hazardous substances, Incorporation by reference, Intergovernmental relations, Reporting and recordkeeping requirements.

Michael S. Regan,
Administrator.

For the reasons set out in the preamble, title 40, chapter I, part 63 of the Code of Federal Regulations is amended as follows:

PART 63—NATIONAL EMISSION STANDARDS FOR HAZARDOUS AIR POLLUTANTS FOR SOURCE CATEGORIES

1. The authority citation for part 63 continues to read as follows:

Authority: 42 U.S.C. 7401 et seq.

Subpart QQQQ—[Amended]

2. Section 63.4741 is amended by revising paragraphs (a)(1)(i) and (a)(4) to read as follows:

§ 63.4741 How do I demonstrate initial compliance with the emission limitations?

* * * * *

(a) * * *

(1) * * *

(i) Count each organic HAP in Table 7 to Subpart QQQQ of Part 63 that is measured to be present at 0.1 percent by mass or more and at 1.0 percent by mass or more for other compounds. For example, if toluene (not listed in Table 7 to this subpart) is measured to be 0.5 percent of the material by mass, you do not have to count it. Express the mass fraction of each organic HAP you count as a value truncated to four places after the decimal point (e.g., 0.3791).

* * * * *

(4) Information from the supplier or manufacturer of the material. You may rely on information other than that generated by the test methods specified in paragraphs (a)(1) through (3) of this section, such as manufacturer's formulation data, if it represents each organic HAP in Table 7 to this subpart that is present at 0.1 percent by mass or more and at 1.0 percent by mass or more for other compounds. For example, if toluene (not listed in Table 7 to this subpart) is 0.5 percent of the material by mass, you do not have to count it. For reactive adhesives in which some of the HAP react to form solids and are not emitted to the atmosphere, you may rely on manufacturer's data that expressly states the organic HAP or volatile matter mass fraction emitted. If there is a disagreement between such information and results of a test conducted according to paragraphs (a)(1) through (3) of this section, then the test method results will take precedence unless, after consultation, you demonstrate to the satisfaction of the enforcement agency the formulation data are correct.

* * * * *

3. Table 7 to subpart QQQQ of part 63 is added to read as follows:

Table 7 to Subpart QQQQ of Part 63—List of HAP That Must Be Counted Toward Organic HAP Content if Present at 0.1 Percent or More by Mass
Chemical name | CAS No.
1,1,2,2-Tetrachloroethane | 79-34-5
1,1,2-Trichloroethane | 79-00-5
1,1-Dimethylhydrazine | 57-14-7
1,2-Dibromo-3-chloropropane | 96-12-8
1,2-Diphenylhydrazine | 122-66-7
1,3-Butadiene | 106-99-0
1,3-Dichloropropene | 542-75-6
1,4-Dioxane 123-91-1
2,4,6-Trichlorophenol | 88-06-2
2,4/2,6-Dinitrotoluene (mixture) | 25321-14-6
2,4-Dinitrotoluene | 121-14-2
2,4-Toluene diamine | 95-80-7
2-Nitropropane | 79-46-9
3,3′-Dichlorobenzidine | 91-94-1
3,3′-Dimethoxybenzidine | 119-90-4
3,3′-Dimethylbenzidine | 119-93-7
4,4′-Methylene bis(2-chloroaniline) | 101-14-4
Acetaldehyde | 75-07-0
Acrylamide | 79-06-1
Acrylonitrile | 107-13-1
Allyl chloride | 107-05-1
alpha-Hexachlorocyclohexane (a-HCH) | 319-84-6
Aniline | 62-53-3
Benzene | 71-43-2
Benzidine | 92-87-5
Benzotrichloride | 98-07-7
Benzyl chloride | 100-44-7
beta-Hexachlorocyclohexane (b-HCH) | 319-85-7
Bis(2-ethylhexyl)phthalate | 117-81-7
Bis(chloromethyl)ether | 542-88-1
Bromoform | 75-25-2
Captan | 133-06-2
Carbon tetrachloride | 56-23-5
Chlordane | 57-74-9
Chlorobenzilate | 510-15-6
Chloroform | 67-66-3
Chloroprene | 126-99-8
Cresols (mixed) | 1319-77-3
DDE | 3547-04-4
Dichloroethyl ether | 111-44-4
Dichlorvos | 62-73-7
Epichlorohydrin | 106-89-8
Ethyl acrylate | 140-88-5
Ethylene dibromide | 106-93-4
Ethylene dichloride | 107-06-2
Ethylene oxide | 75-21-8
Ethylene thiourea | 96-45-7
Ethylidene dichloride (1,1-Dichloroethane) | 75-34-3
Formaldehyde | 50-00-0
Heptachlor | 76-44-8
Hexachlorobenzene | 118-74-1
Hexachlorobutadiene | 87-68-3
Hexachloroethane | 67-72-1
Hydrazine | 302-01-2
Isophorone | 78-59-1
Lindane (hexachlorocyclohexane, all isomers) | 58-89-9
m-Cresol | 108-39-4
Methylene chloride | 75-09-2
Naphthalene | 91-20-3
Nitrobenzene | 98-95-3
Nitrosodimethylamine | 62-75-9
o-Cresol | 95-48-7
o-Toluidine | 95-53-4
Parathion | 56-38-2
p-Cresol | 106-44-5
p-Dichlorobenzene | 106-46-7
Pentachloronitrobenzene | 82-68-8
Pentachlorophenol | 87-86-5
Propoxur | 114-26-1
Propylene dichloride | 78-87-5
Propylene oxide | 75-56-9
Quinoline | 91-22-5
Tetrachloroethene | 127-18-4
Toxaphene | 8001-35-2
Trichloroethylene | 79-01-6
Trifluralin | 1582-09-8
Vinyl bromide | 593-60-2
Vinyl chloride | 75-01-4
Vinylidene chloride | 75-35-4

Subpart QQQQQQ—[Amended]

4. Table 1 to subpart QQQQQQ of part 63 is revised to read as follows:

Table 1 to Subpart QQQQQQ of Part 63—Applicability of General Provisions to Subpart QQQQQQ

As required in § 63.11432, you must comply with the requirements of the NESHAP General Provisions (40 CFR part 63, subpart A) as shown in the following table.

Citation | Subject | Applies to subpart QQQQQQ? | Explanation
63.1(a)(1)-(4) | General applicability of the General Provisions | Yes
63.1(a)(5) | Reserved | No
63.1(a)(6) | General applicability of the General Provisions | Yes
63.1(a)(7)-(9) | Reserved | No
63.1(a)(10)-(12) | General applicability of the General Provisions | Yes
63.1(b)(1) | Initial applicability determination | Yes
63.1(b)(2) | Reserved | No
63.1(b)(3) | Record of applicability determination | Yes
63.1(c)(1)-(2) | Applicability of subpart A of this part after a relevant standard has been set | Yes
63.1(c)(3)-(4) | Reserved | No
63.1(c)(5) | Notification requirements for an area source that increases HAP emissions to major source levels | Yes
63.1(c)(6) | Reclassification | Yes
63.1(d) | Reserved | No
63.1(e) | Applicability of permit program before a relevant standard has been set | Yes
63.2 | Definitions | Yes
63.3 | Units and abbreviations | Yes
63.4 | Prohibited activities and circumvention | Yes
63.5(a)(1) | Applicability of preconstruction review requirements | No
63.5(a)(2) | Applicability of notification requirements | Yes
63.5(b)(1) | Requirements for newly constructed and reconstructed sources | Yes
63.5(b)(2) | Reserved | No
63.5(b)(3) | Required preconstruction approval required for major source construction and reconstruction | No | Subpart QQQQQQ does not regulate major sources.
63.5(b)(4) | Notification requirements for construction or reconstruction of area sources | Yes
63.5(b)(5) | Reserved | No
63.5(b)(6) | Added equipment (or a process change) must be considered part of the affected source and subject to all provisions in the relevant standards | Yes
63.5(c) | Reserved | No
63.5(d) | Application for approval of construction or reconstruction | No | Subpart QQQQQQ does not require an application for construction or reconstruction.
63.5(e) | Approval of construction or reconstruction | No | Subpart QQQQQQ does not require application approval before construction or reconstruction.
63.5(f) | Approval of construction or reconstruction based on prior State preconstruction review | No | Subpart QQQQQQ does not require approval of construction or reconstruction based on prior State preconstruction review.
63.6(a) | Compliance with standards and maintenance requirements | Yes
63.6(b)(1)-(5) | Compliance dates for new and reconstructed sources | Yes
63(b)(6) | Reserved | No
63(b)(7) | Compliance dates for new and reconstructed sources | Yes
63.6(c)(1)-(2) | Compliance dates for existing sources | Yes
63.6(c)(3)-(4) | Reserved | No
63.6(c)(5) | Compliance dates for existing sources | Yes
63.6(d) | Reserved | No
63.6(e)(1) | Operation and maintenance requirements | Yes
63.6(e)(2) | Reserved | No
63.6(e)(3)(i) | Startup, shutdown, and malfunction plan | No | Subpart QQQQQQ does not require a startup, shutdown, and malfunction plan.
63.6(e)(3)(ii) | Reserved | No
63.6(e)(3)(iii)-(ix) | Startup, shutdown, and malfunction plan | No | Subpart QQQQQQ does not require a startup, shutdown, and malfunction plan.
63.6(f) | Compliance with nonopacity emission standards | No | Subpart QQQQQQ does not contain emission or opacity limits.
63.6(g) | Use of an alternative nonopacity emission standard | No | Subpart QQQQQQ does not contain emission or opacity limits.
63.6(h)(1) | Compliance with opacity and visible emissions standards | No | Subpart QQQQQQ does not contain emission or opacity limits.
63.6(h)(2)(i) | Compliance with opacity and visible emissions standards | No | Subpart QQQQQQ does not contain emission or opacity limits.
63.6(h)(2)(ii) | Reserved | No
63.6(h)(2)(iii) | Compliance with opacity and visible emissions standards | No | Subpart QQQQQQ does not contain emission or opacity limits.
63.6(h)(3) | Reserved | No
63.6(h)(4) | Notification of opacity or visible emission observations | No | Subpart QQQQQQ does not contain emission or opacity limits.
63.6 (h)(5)(i)-(iii) | Conduct of opacity or visible emission observations | No | Subpart QQQQQQ does not contain emission or opacity limits.
63.6(h)(5)(iv) | Reserved | No
63.6(h)(5)(v) | Conduct of opacity or visible emission observations | No | Subpart QQQQQQ does not contain emission or opacity limits.
63.6(h)(6)-(9) | Availability of records and use of continuous opacity monitoring system | No | Subpart QQQQQQ does not contain emission or opacity limits.
63.6(i) | Extension of compliance with emissions standards | Yes
63.6(j) | Exemption from compliance with emissions standards | Yes
63.7 | Performance Testing Requirements | No | Subpart QQQQQQ does not require performance tests.
63.8(a)(1)-(2) | Applicability of monitoring requirements | No | Subpart QQQQQQ does not require monitoring of emissions.
63.8(a)(3) | Reserved | No
63.8(a)(4) | Applicability of monitoring requirements | No | Subpart QQQQQQ does not require monitoring of emissions.
63.8(b)-(g) | Conduct of monitoring | No | Subpart QQQQQQ does not require monitoring of emissions.
63.9(a) | Applicability and general information for notification requirements | Yes
63.9(b)(1)-(2) | Initial notifications | Yes
63.9(b)(3) | Reserved | No
63.9(b)(4)-(5) | Initial notifications | Yes
63.9(c)-(d) | Extension of compliance and special compliance requirements | Yes
63.9(e), (f), (g) | Notification of performance test, opacity and visible emission observation, and requirements for sources with continuous monitoring systems | No | Subpart QQQQQQ does not require monitoring of emissions.
63.9(h)(1)-(3) | Notification of compliance status | Yes
63.9(h)(4) | Reserved | No
63.9(h)(5)-(6) | Notification of compliance status | Yes
63.9(i)-(j) | Adjustment to time periods or postmark deadlines for submittal and review of required communications, and change in information already provided | Yes
63.9(k) | Electronic submission of notifications and reports | No | Subpart QQQQQQ does not require electronic reporting.
63.10(a)-(b) | Recordkeeping and reporting requirement applicability and general information | No | Subpart QQQQQQ establishes requirements for a report of deviations within 30 days.
63.10(c)(1) | Additional recordkeeping requirements for sources with continuous monitoring systems | No | Subpart QQQQQQ does not require the use of continuous monitoring systems.
63.10(c)(2)-(4) | Reserved | No
63.10(c)(5)-(8) | Additional recordkeeping requirements for sources with continuous monitoring systems | No | Subpart QQQQQQ does not require the use of continuous monitoring systems.
63.10(c)(9) | Reserved | No
63.10(c)(10)-(15) | Additional recordkeeping requirements for sources with continuous monitoring systems | No | Subpart QQQQQQ does not require the use of continuous monitoring systems.
63.10(d)-(f) | General reporting requirements, additional requirements for sources with continuous monitoring systems, and waiver of recordkeeping or reporting requirements | No | Subpart QQQQQQ establishes requirements for a report of deviations within 30 days.
63.11 | Control device requirements for flares and work practice requirements for monitoring leaks | No | Subpart QQQQQQ does not require flares and does not require monitoring for leaks.
63.12 | State authorities and delegations | Yes
63.13 | Addresses of state air pollution control agencies and EPA Regional Offices | Yes
63.14 | Incorporations by Reference | Yes
63.15 | Availability of information and confidentiality | Yes
63.16 | Requirements for Performance Track member facilities | Yes

[FR Doc. 2023-04376 Filed 3-7-23; 8:45 am]

BILLING CODE 6560-50-P